DEPARTMENT OF LABOR

Employment and Training Administration

[TA-W-42,338]

Kane Handle Company, a Division of Ames True Temper, Kane, PA; Notice of Termination of Investigation

Pursuant to Section 221 of the Trade Act of 1974, an investigation was initiated on November 1, 2002 in response to a petition filed by the United Steelworkers of America on behalf of workers at Kane Handle Company, a Division of Ames True Temper, Kane, Pennsylvania.

A negative determination applicable to the petitioning group of workers was issued on October 8, 2002 (TA-W-42,093). No new information is evident which would result in a reversal of the Department's previous determination. Consequently, further investigation in this case would serve no purpose, and the investigation has been terminated.

Signed in Washington, DC this 19th day of November, 2002.
Linda G. Poole,
Certifying Officer, Division of Trade Adjustment Assistance.

[FR Doc. 02-30065 Filed 11-26-02; 8:45 am]

BILLING CODE 4510-30-P